DEPARTMENT OF TRANSPORTATION

Federal Highway Administration

Notice of Final Federal Agency Action on Proposed Project in Georgia, the Rome-Cartersville Development Corridor Project, Bartow County, Georgia

AGENCY: Federal Highway Administration (FHWA), Department of Transportation (DOT).

ACTION: Notice of limitations on claims for judicial review of action by FHWA and other Federal agencies.

SUMMARY: This notice announces actions taken by FHWA and other Federal agencies that are final. This final agency action relates to the construction of the Rome-Cartersville Development Corridor in Bartow County. The FHWA's Finding of No Significant Impact (FONSI) provides details on the Selected Alternative for the proposed improvements.

DATES: By this notice, FHWA is advising the public of the final agency actions subject to 23 U.S.C. 139(l)(1). A claim seeking judicial review of the Federal agency actions on the highway project will be barred unless the claim is filed on or before July 14, 2023. If the Federal law that authorizes judicial review of a claim provides a time period of less than 150 days for filing such claim, then that shorter time period still applies.

FOR FURTHER INFORMATION CONTACT:

For FHWA: Mr. Aaron Hernandez, Environmental Coordinator, Federal Highway Administration Georgia Division, 61 Forsyth Street SW, Suite 17T100, Atlanta, Georgia 30303; telephone (404) 562-3584; email: aaron.hernandez@dot.gov. The FHWA Georgia Division Office's normal business hours are 8:00 a.m. to 5:00 p.m. (Eastern Time) Monday through Friday.

For Georgia Department of Transportation (GDOT): Mr. Eric Duff, State Environmental Administrator, Georgia Department of Transportation, 600 West Peachtree Street NW, 16th Floor, Atlanta, Georgia 30308; telephone (404) 631-1100; email: eduff@dot.ga.gov. The GDOT Office of Environmental Service's normal business hours are 8:00 a.m. to 5:00 p.m. (Eastern Time) Monday through Friday.

SUPPLEMENTARY INFORMATION: Notice is hereby given that FHWA has taken a final agency action by issuing a FONSI for the following highway project in the State of Georgia: the Rome-Cartersville Development Corridor Project located in Bartow County, Georgia. The proposed project will improve travel conditions for automobiles and trucks between US 411/US 41 and I-75 in Bartow County by constructing a new location four-lane highway between US 411/US 41 and I-75, constructing a new full-diamond interchange that will replace the existing overpass on Old Grassdale Road at I-75, constructing roundabout intersection controls, and relocating the existing connection with Busch Drive. The route will continue back on existing Old Grassdale Road, ending approximately 0.5-mile northeast of I-75. The purpose of the project is to improve connectivity for commuters and truck traffic needing I-75 access from within Floyd and Bartow counties. The project is included in the Cartersville-Bartow Metropolitan Planning Organization (CB-MPO) Transportation Improvement Program (TIP) as project number CB-512.

The FHWA's action, related actions by other Federal agencies, and the laws under which such actions were taken are described in the Environmental Assessment (EA) approved on August 2, 2022, and the FONSI issued on February 8, 2023, and other documents in the project file. The EA, FONSI, and other project records are available for review by contacting FHWA or the Georgia Department of Transportation at the addresses provided above. The EA and FONSI can also be reviewed and downloaded from the project website at https://rcdc-0013238-gdot.hub.arcgis.com/.

This notice applies to all Federal agency decisions as of the issuance date of this notice and all laws under which such actions were taken, including but not limited to:

1. General: National Environmental Policy Act (NEPA) [42 U.S.C. 4321-4351]; Federal-Aid Highway Act [23 U.S.C. 109 and 23 U.S.C. 128].

2. Air: Clean Air Act [42 U.S.C. 7401-7671(q)].

3. Noise: Noise Control Act of 1972 [42 U.S.C. 4901-4918]; 23 CFR part 772.

4. Land: Section 4(f) of the Department of Transportation Act of 1966 [49 U.S.C. 303].

5. Wildlife: Endangered Species Act (ESA) [16 U.S.C. 1531-1544 and section 1536]; Fish and Wildlife Coordination Act [16 U.S.C. 661-667d]; Migratory Bird Treaty Act [16 U.S.C. 703-712].

6. Historic and Cultural Resources: Section 106 of the National Historic Preservation Act of 1966, as amended [16 U.S.C. 470(f) et seq.]; Archeological Resources Protection Act of 1977 [16 U.S.C. 470(aa)-470(ll)]; Archeological and Historic Preservation Act [16 U.S.C. 469-469c]; Native American Grave Protection and Repatriation Act (NAGPRA) [25 U.S.C. 3001-3013].

7. Social and Economic: Civil Rights Act of 1964 [42 U.S.C. 2000(d)-2000(d)(1)]; American Indian Religious Freedom Act [42 U.S.C. 1996]; Farmland Protection Policy Act (FPPA) [7 U.S.C. 4201-4209].

8. Wetlands and Water Resources: Coastal Zone Management Act [16 U.S.C. 1451-1465]; Land and Water Conservation Fund (LWCF) [16 U.S.C. 4601-4604]; Safe Drinking Water Act (SDWA) [42 U.S.C. 300(f)-300(j)(6)]; Wild and Scenic Rivers Act [16 U.S.C. 1271- 1287]; Flood Disaster Protection Act [42 U.S.C. 4001-4128].

9. Hazardous Materials: Comprehensive Environmental Response, Compensation, and Liability Act (CERCLA) [42 U.S.C. 9601-9675]; Superfund Amendments and Reauthorization Act of 1986 (SARA); Resource Conservation and Recovery Act (RCRA) [42 U.S.C. 6901-6992(k)].

10. Executive Orders: E.O. 11990 Protection of Wetlands; E.O. 11988 Floodplain Management; E.O. 12898, Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13045 Protection of Children From Environmental Health Risks and Safety Risks; E.O. 13112 Invasive Species.

(Catalog of Federal Domestic Assistance Program Number 20.205, Highway Planning and Construction. The regulations implementing Executive Order 12372 regarding intergovernmental consultation on Federal programs and activities apply to this program.)

Authority: 23 U.S.C. 139(l)(1).

Issued on: February 8, 2023.
Sabrina S. David,
Division Administrator, Atlanta, Georgia.

[FR Doc. 2023-03097 Filed 2-13-23; 8:45 am]

BILLING CODE 4910-22-P